LIBRARY OF CONGRESS

Copyright Office

37 CFR Part 202

[Docket No. RM 2003-2]

Architectural Works

AGENCY: Copyright Office, Library of Congress.

ACTION: Final rule; technical amendment.

SUMMARY: This document makes non-substantive, technical amendments to Copyright Office regulations.

EFFECTIVE DATE: June 30, 2003.

FOR FURTHER INFORMATION CONTACT: Kent Dunlap, Principal Legal Advisor or Sandra L. Jones, Writer-Editor, Copyright GC/I&R, PO Box 70400, Southwest Station, Washington, DC 20024. Telephone: (202) 707-8380. Telefax: (202) 707-8366.

SUPPLEMENTARY INFORMATION: The Copyright Office has reviewed its regulations and makes technical amendments to 37 CFR part 202. In 1990, the Architectural Works Copyright Protection Act amended 17 U.S.C. 101 to add the definition for “architectural work.” The Act also exempts from copyright registration architectural works embodied in unpublished plans or drawings created before December 1, 1990, if the works remained unconstructed on December 31, 2002. Regulations pertaining to registration of architectural works are found at 37 CFR 202.11, and paragraph (d) of that section covers works excluded from protection. The time for unpublished works created before December 1, 1990, to become constructed has now expired. The technical amendments are intended to reflect the exclusion and to clarify that the full title of the amending legislation is the Architectural Works Copyright Protection Act, title VII of the Judicial Improvements Act of 1990, Public Law 101-650, 104 Stat. 5089, 5133.

List of Subjects in 37 CFR Part 202

Claims, Copyright.

Final Rule

For the reasons set forth in the preamble, 37 CFR part 202 is amended as follows:

PART 202—REGISTRATION OF CLAIMS TO COPYRIGHT

1. The authority citation for Part 202 continues to read as follows:

Authority: 17 U.S.C. 408, 702.

2. Amend § 202.11 by adding “the Architectural Works Copyright Protection Act, title VII of” after “United States Code by” and by revising paragraph (d)(3) to read as follows:.”

§ 202.11 Architectural works.

* * * * *

(d) * * *

(3) Pre-December 1, 1990 building designs.

(i) Published building designs. The designs of buildings where the plans or drawings of the building were published before December 1, 1990, or the buildings were constructed or otherwise published before December 1, 1990.

(ii) Unpublished building designs. The designs of buildings that were unconstructed and embodied in unpublished plans or drawings on December 1, 1990, and remained unconstructed on December 31, 2002.

Dated: June 25, 2003.
Marilyn J. Kretsinger,
Associate General Counsel.

[FR Doc. 03-16484 Filed 6-27-03; 8:45 am]

BILLING CODE 1410-30-P